DEPARTMENT OF THE INTERIOR

Bureau of Land Management

[UT-060-06-1430; UTU-81536]

Notice of Realty Action; Noncompetitive Lease of Public Land; Grand County, UT

AGENCY: Bureau of Land Management, Interior.

ACTION: Notice of realty action.

SUMMARY: The Bureau of Land Management (BLM) has determined that 2,808.67 acres of isolated public lands in Grand County, Utah, are suitable for lease pursuant to section 302 of the Federal Land Policy and Management Act of 1976 (FLPMA) (90 Stat. 2762; 43 U.S.C. 1732) using noncompetitive (direct) lease procedures.

DATES: Interested parties may submit comments to the BLM Moab Field Manager, at the address below. Comments must be received by no later than April 28, 2006. Only written comments will be accepted.

ADDRESSES: Address all written comments concerning this notice to the BLM Moab Field Manager, 82 East Dogwood Avenue, Moab, Utah 84532.

FOR FURTHER INFORMATION CONTACT: Mary von Koch, Realty Specialist, at the above address or at (435) 259-2128.

SUPPLEMENTARY INFORMATION: Green River Farms, a domestic corporation, has proposed to file with BLM an application to lease the following described public lands, located near Green River, Utah, the lands to be used, occupied and developed as a commercial agricultural farm in conjunction with adjoining lands leased to Green River Farms by the State of Utah School and Institutional Trust Lands Administration:

Salt Lake Meridian

T. 20 S., R. 16 E.,

sec. 25, S½;

sec. 26, SW¼SW¼, E½SW¼, and SE¼;

sec. 27, SE¼SE¼;

sec. 28, E½SE¼;

sec. 34, W½NW¼.

T. 21 S., R. 16 E.,

sec. 1, lots 1, 4, 5, 8, 9, 11, 12, 13, and 16.

T. 21 S., R. 17 E.,

sec. 4, lots 11, 12, 13, 14, N½SW¼, SW¼SW¼, and NW¼SE¼;

sec. 5, E½SE¼;

sec. 6, lots 2, 3, 4, 5, 7, and 10;

sec. 7, lot 4, SE¼SW¼, and SE¼;

sec. 8, NW¼SW¼, SE¼SW¼, and SE¼;

sec. 9, N½N½, S½NE¼, SW¼NW¼, and S½

Containing 2,808.67 acres, more or less.

After review, the BLM has determined that the proposed use of the above described parcels is in conformance with the Grand Resource Area Resource Management Plan, and that the above described land is available for that use. Therefore, pursuant to section 302 (b) of the Federal Land Policy and Management Act of 1976 (43 U.S.C. 1732 (b)) and the implementing regulations at 43 CFR part 2920, the BLM will accept for processing an application to be filed by Green River Farms, or its duly qualified designee, for a non-competitive lease of the above described lands, to be used, occupied, and developed as stated above.

A non-competitive lease may be employed in this case because all of the subject tracts of public land are adjacent to lands leased by Green River Farms from the State of Utah School and Institutional Trust Land Administration (SITLA) as part of the same proposed farming project. The subject lands are part of a BLM/SITLA legislative exchange package. It is therefore quite possible that these lands will be transferred to SITLA. SITLA has indicated in writing that it would have no objection to acquiring the lands if encumbered by the lease. As provided in 43 CFR 2920.5-4(b), land use authorizations may be offered on a negotiated, non-competitive basis, when, in the judgment of the authorized officer, equities, such as prior use of the lands, exist; if no competitive interest exists; or, where competitive bidding would represent unfair competitive and economic disadvantage to the originator of the unique land use concept that is compatible with the public interest. The non-competitive bid shall not be for less than fair market value. That is to say, rental value must be based on the fair market value of the land, acceptable to the BLM after taking into account a current, independent appraisal of, among other considerations, the highest and best use of the lands. The BLM will estimate the costs of processing the lease application. Before the BLM begins to process the application, the lease applicant must pay the full amount of the estimated costs to the United States. If a lease is not granted, the lease applicant must pay to the United States, in addition to the estimated costs, the reasonable costs incurred by the BLM in processing the lease in excess of the estimated costs. Rent, payable annually or otherwise in advance, will be determined by the BLM, if and when a lease application is granted and periodically thereafter. If a lease is granted, the lessee shall reimburse the United States for all reasonable administrative and other costs incurred by the United States in processing the lease application and for monitoring construction, operation, maintenance and rehabilitation of the land and facilities authorized. The reimbursement of costs shall be in accordance with the provisions of 43 CFR 2920.6.

The lease application must include a reference to this notice and comply in all respects with the regulations pertaining to land use authorization applications at 43 CFR 2920.5-2 and 2920.5-5(b).

If authorized, the lease would be subject to valid existing rights.

On or before April 28, 2006, interested parties may submit comments to the BLM at the address stated above with respect to:

(1) The decision of the BLM regarding the availability of the lands described herein and

(2) The decision of the BLM to accept for processing an application from Green River Farms for a non-competitive lease.

Adverse comments will be evaluated by the BLM Field Manager, Moab, Utah, who may sustain, vacate or modify this realty action. In the absence of adverse comment, this realty action will become a final determination of the BLM as to each of the two decisions stated above.

Authority: 43 CFR 2920.4.

A. Lynn Jackson,
Assistant Field Manager, Resources.

[FR Doc. E6-3583 Filed 3-13-06; 8:45 am]

BILLING CODE 4310-DQ-P